DEPARTMENT OF ENERGY

Federal Energy Regulatory Commission

[Project No. 2787-007]

Green Mountain Power; Ottauquechee Hydro Company, Inc.; Notice of Transfer of Exemption

1. By letter filed February 21, 2017 and supplemented on March 2, 2017, Enel Green Power North America, Inc. informed the Commission that the exemption from licensing for the Ottauquechee Woolen Mill Project No. 2787, originally issued August 13, 1982 ¹ has been transferred to the Green Mountain Power, effective January 29, 2017. The project is located on the Ottauquechee River in Windsor County, Vermont. The transfer of an exemption does not require Commission approval.

¹ Order Granting Exemption from Licensing of a Small Hydroelectric Project of 5 MW or Less. White Current Corporation, 20 FERC ¶ 62,271 (1982).

2. Green Mountain Power is now the exemptee of the Ottauquechee Woolen Mill Project No. 2787. All correspondence should be forwarded to: Green Mountain Power, 163 Acorn Lane, Colchester, VT 05446.

Dated: March 10, 2017.
Kimberly D. Bose,
Secretary.

[FR Doc. 2017-05310 Filed 3-16-17; 8:45 am]

BILLING CODE 6717-01-P